DEPARTMENT OF COMMERCE

International Trade Administration

[A-351-824]

Silicomanganese From Brazil: Notice of Intent to Rescind Antidumping Duty Administrative Review

AGENCY: Import Administration, International Trade Administration, Department of Commerce.

SUMMARY: In response to a request from Eramet Marietta Inc., a domestic producer of silicomanganese, the Department of Commerce initiated an administrative review of the antidumping duty order on silicomanganese from Brazil. The period of review covers December 1, 2004, through November 30, 2005. Because the sole respondent reported that it had no sales or shipments to the United States during the period of review, we intend to rescind the review.

EFFECTIVE DATE: May 19, 2006.

FOR FURTHER INFORMATION CONTACT: Yang Jin Chun at (202) 482-5760 or Dmitry Vladimirov at (202) 482-0665, AD/CVD Operations, Office 5, Import Administration, International Trade Administration, U.S. Department of Commerce, 14th Street and Constitution Avenue, NW, Washington, DC 20230.

SUPPLEMENTARY INFORMATION: The Department of Commerce (the Department) published an antidumping duty order on silicomanganese from Brazil on December 22, 1994. See Notice of Antidumping Duty Order: Silicomanganese from Brazil, 59 FR 66003 (December 22, 1994). On December 1, 2005, the Department published a notice of opportunity to request an administrative review of the antidumping duty order for the period of review covering December 1, 2004, through November 30, 2005. See Notice of Opportunity to Request Administrative Review of Antidumping or Countervailing Duty Order, Finding, or Suspended Investigation, 70 FR 72109 (December 1, 2005). In accordance with 19 CFR 351.213(b)(1), the petitioner, Eramet Marietta Inc., requested an administrative review of this order with respect to the following respondents: Rio Doce Manganês S.A., Companhia Paulista de Ferro-Ligas, and Urucum Mineração S.A. (collectively RDM/CPFL).

The Department published the initiation of the administrative review of the antidumping duty order on silicomanganese from Brazil on February 1, 2006. See Initiation of Antidumping and Countervailing Duty Administrative Reviews and Request for Revocation in Part, 71 FR 5241 (February 1, 2006).

Scope of the Order

The merchandise covered by this order is silicomanganese. Silicomanganese, which is sometimes called ferrosilicon manganese, is a ferroalloy composed principally of manganese, silicon and iron, and normally contains much smaller proportions of minor elements, such as carbon, phosphorus, and sulfur. Silicomanganese generally contains by weight not less than 4 percent iron, more than 30 percent manganese, more than 8 percent silicon, and not more than 3 percent phosphorous. All compositions, forms, and sizes of silicomanganese are included within the scope of the order, including silicomanganese slag, fines, and briquettes. Silicomanganese is used primarily in steel production as a source of both silicon and manganese.

Silicomanganese is currently classifiable under subheading 7202.30.0000 of the Harmonized Tariff Schedule of the United States (HTSUS). Some silicomanganese may also currently be classifiable under HTSUS subheading 7202.99.5040. This order covers all silicomanganese, regardless of its tariff classification. Although the HTSUS subheadings are provided for convenience and customs purposes, the written description of the order remains dispositive.

Intent to Rescind Administrative Review

The Department will rescind an administrative review with respect to an exporter or producer if the Department concludes that there were no entries, exports, or sales of the subject merchandise to the United States during the period of review. See 19 CFR 351.213(d)(3). In response to the Department's questionnaire, RDM/CPFL notified the Department that the company had no entries, exports, or sales of the subject merchandise to the United States during the period of review. Eramet Marietta Inc. submitted no information rebutting RDM/CPFL's response.

The Department conducted a customs data query to ascertain whether there were suspended entries of subject merchandise. See April 12, 2006, Memorandum to File entitled “Silicomanganese from Brazil: Internal Customs Data Query.” Based on the data query, there is no evidence of entries or shipments of the subject merchandise by RDM/CPFL during the period of review. Therefore, we intend to rescind the review.

In accordance with the Department's clarification of its assessment policy (see Antidumping and Countervailing Duty Proceedings: Assessment of Antidumping Duties, 68 FR 23954 (May 6, 2003)), in the event any entries were made during the period of review through intermediaries under U.S. Customs and Border Protection (CBP) case numbers for RDM/CPFL, the Department will instruct CBP to liquidate such entries at the all-others rate in effect on the date of entry.

Public Comment

An interested party may request a hearing within 15 days of publication of this notice of intent to rescind. See 19 CFR 351.310(c). Any hearing, if requested, will be held 30 days after the date of publication, or the first working day thereafter. Interested parties may submit case briefs no later than 15 days after the date of publication of this notice of intent to rescind. See 19 CFR 351.309(c)(ii). Rebuttal briefs, limited to issues raised in case briefs, may be filed no later than five days after the time limit for filing the case brief. See 19 CFR 351.309(d). Parties who submit arguments are requested to submit with the argument (1) a statement of the issue, (2) a brief summary of the argument, and (3) a table of authorities. Further, parties submitting written comments should provide the Department with an additional copy of the public version of any such comments on diskette. The Department will issue the final notice, which will include the results of its analysis of issues raised in any such comments, or at a hearing, if requested, within 120 days of publication of this notice of intent to rescind.

This notice is issued and published in accordance with sections 751(a)(1) and 777(i)(1) of the Tariff Act of 1930, as amended, and 19 CFR 351.213(d).

Dated: May 15, 2006.
Stephen J. Claeys,
Deputy Assistant Secretary for Import Administration.

[FR Doc. E6-7683 Filed 5-18-06; 8:45 am]

BILLING CODE 3510-DS-S